COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must Be Received On Or Before: 7/21/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Cover, Toilet Seat, Disposable, Paper

NSN: 8540-00-965-5790—Quarter-Folded

NSN: 8540-00-NIB-0060—Half-Folded

NPA: Outlook-Nebraska, Inc., Omaha, NE

Contracting Activity: General Services Administration, New York, NY

Coverage: A-List for the Total Government Requirement as aggregated by the General Services Administration, New York, NY.

Measuring Tool, Set, Machinist's, MMTS

NSN: 5280-00-NIB-9919

NPA: Industries for the Blind, Inc., Milwaukee, WI

Contracting Activity: Army Contracting Command—U.S. Army Tank and Automotive Command, Warren, MI

Coverage: C-List for 100% of the requirements of the U.S. Army as aggregated by Army Contracting Command—U.S. Army Tank and Automotive Command, Warren, MI.

Services

Service Type/Location: Administrative Contract Close-Out Support Service

Consumer Financial Protection Bureau, 1625 Eye Street NW., Washington, DC

NPA: ServiceSource, Inc., Alexandria, VA

Contracting Activity: Department of Treasury, Bureau of the Fiscal Service, PSB 3, Parkersburg, WV

Service Type/Location: IT Service Desk Support Service

U.S. Department of Agriculture Forest Service, 101B Sun Avenue NE., Suite 200, Albuquerque, NM

NPA: Peckham Vocational Industries, Inc., Lansing, MI

Contracting Activity: Department of Agriculture Forest Service, WO-AQM IT Support, Albuquerque, NM

Service Type/Location: Janitorial, Grounds and Refuse Collection Service

U.S. Air Force, Arnold Air Force Base, 100 Kindel Drive, Arnold AFB, TN

NPA: CW Resources, Inc., New Britain, CT

Contracting Activity: Dept of the Air Force, FA9101 AEDC PKP, Procurement Branch, Arnold AFB, TN

Service Type/Location: Contact Center Service

Centers for Medicare and Medicaid Services, 7500 Security Boulevard, Baltimore, MD

NPA: InspiriTec, Inc., Philadelphia, PA

Contracting Activity: Department of Health and Human Services, Centers for Medicare and Medicaid Services, Baltimore, MD

Barry S. Lineback,
Director, Business Operations.

[FR Doc. 2014-14463 Filed 6-19-14; 8:45 am]

BILLING CODE 6353-01-P